DEPARTMENT OF COMMERCE

International Trade Administration

[A-588-850, A-588-851, A-791-808]

Notice of Final Determinations of Sales at Less Than Fair Value: Certain Large Diameter Carbon and Alloy Seamless Standard, Line and Pressure Pipe from Japan; and Certain Small Diameter Carbon and Alloy Seamless Standard, Line and Pressure Pipe from Japan and the Republic of South Africa

AGENCY: Important Administration, International Trade Administration, Department of Commerce.

EFFECTIVE DATE: May 4, 2000.

FOR FURTHER INFORMATION CONTACT: Charles Riggle at (202) 482-5288 or Constance Handley at (202) 482-0631, Important Administration, Room 1870, International Trade Administration, U.S. Department of Commerce, 14th Street and Constitution Avenue, NW., Washington DC 20230.

The Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department of Commerce (“the Department”) regulations refer to the regulations codified at 19 CFR part 351 (April 1999).

Final Determinations

We determine that large diameter carbon and alloy seamless standard, line and pressure pipe (large diameter seamless pipe) from Japan, and small diameter carbon and alloy seamless standard, line and pressure pipe (small diameter seamless pipe) from Japan and the Republic of South Africa (South Africa) are being sold in the United States at less than fair value (LTFV), as provided in section 735 of the Act. The estimated margins are shown in the Suspension of Liquidation section of this notice.

Case History

The preliminary determinations in these investigations were issued on December 7, 1999. See Notice of Preliminary Determinations of Sales at Less Than Fair Value: Certain Large Diameter Carbon and Alloy Seamless Standard, Line and Pressure Pipe from Japan and Certain Small Diameter Carbon and Alloy Seamless Standard, Line and Pressure Pipe from Japan and the Republic of South Africa, 64 FR 69718 (December 14, 1999) “(Preliminary Determinations”). On January 13, 2000, in the investigations involving Japan, case briefs were filed by Sumitomo Metal Industries, Ltd. (SMI), MC Tubular Products, Inc. (MCTP) and the American Boiler Manufacturers Association (ABMA). The petitioners ¹ submitted a rebuttal brief on January 21, 2000. No briefs were filed in the investigation involving the Republic of South Africa (South Africa). On March 9, 2000, we published an affirmative preliminary determination of critical circumstances in the investigations involving small diameter pipe from Japan and South Africa.² A hearing was held on March 14, 2000, in the context of the investigations involving Japan. On April 26, 2000, the petitioners requested that the scope of the large diameter investigation be amended to exclude certain products.

¹ The petitioners in the large diameter pipe cases include U.S. Steel Group (a unit of USX Corp.), Lorain Tubular Co. LLC (“formerly USS/Kobe Steel Company”) and the United Steel Workers of America. The petitioners in the small diameter pipe cases include Koppel Steel Corporation, Sharon Tube Company, U.S. Steel Group, Lorain Tubular Co. LLC and Vision Metals, Inc. (Gulf States Tube Division) and the United Steel Workers of America.

² See Preliminary Determinations of Critical Circumstances: Certain Small Diameter Carbon and Alloy Seamless Standard, Line and Pressure Pipe from Japan and South Africa 65 FR 12509 (March 9, 2000).

Analysis of Comments Received

All issues raised in the case and rebuttal briefs by parties to these investigations are addressed in the “Issues and Decision Memorandum” (Decision Memorandum) from Holly A. Kuga, Acting Deputy Assistant Secretary, Import Administration, to Troy H. Cribb, Acting Assistant Secretary for Import Administration, dated April 27, 2000, which is hereby adopted by this notice.

A list of the issues which parties have raised and to which we have responded, all of which are in the Decision Memorandum, is attached to this notice as an Appendix. Parties can find a complete discussion of all issues raised in these investigations and the corresponding recommendations in this public memorandum which is on file in the Central Records Unit, room B-099 of the main Department building.

In addition, a complete version of the Decision Memorandum can be accessed directly on the World Wide Web at www.ita.doc.gov/import_admin/records/frn. The paper copy and electronic version of the Decision Memorandum are identical in content.

Scope of Investigations

For a description of the scope of this investigation, see the “Scope and Investigations” section of the Decision Memorandum, which is on file in B-099 and available on the Web at www.ita.doc.gov/import_admin/records/frn/. The scope of the investigations has been amended since the preliminary determination.

Period of Investigations

The period of the investigations (“POI”) for both the large and small diameter seamless pipe cases is April 1, 1998, through March 31, 1999.

Facts Available

In the preliminary determinations, the Department based the dumping margins for the mandatory respondents, Kawasaki Steel Corporation (Kawasaki), Nippon Steel Corporation (Nippon), and Sumitomo Metal Industries (SMI) for both investigations involving Japan; and Iscor Ltd. (Iscor) in the investigation involving South Africa, on facts otherwise available pursuant to section 776(a)(2)(A) of the Act. The use of facts otherwise available is necessary because the record does not contain company-specific information due to the fact that each of these respondents failed to respond to the Department's questionnaire, nor did they provide any indication that they were unable to do so. Therefore, the Department found that they failed to cooperate by not acting to the best of their ability. As a result, pursuant to section 776(b), the Department used an adverse inference in selecting from the facts available. Specifically, the Department assigned to the mandatory respondents the highest margins alleged in the respective petitions. We continue to find these margins corroborated, pursuant to section 776(c) of the Act, for the reasons discussed in the Preliminary Determinations. No interested parties have objected to the use of adverse facts available for the mandatory respondents in these investigations, nor to the Department's choice of facts available. For its final determinations, the Department is continuing to use the highest margins alleged by petitioners for all non-responding mandatory respondents in these proceedings. See Preliminary Determinations. In addition, the Department has left unchanged from the preliminary determinations the “All Others Rate” in each investigation.

Critical Circumstances

No comments were received regarding the Department's preliminary critical circumstances determinations, and the Department has not made any changes to those determinations. For the reasons given in the preliminary determinations, the Department continues to find that critical circumstances exist with respect to small diameter seamless pipe imported from SMI, Kawasaki and Nippon in the investigation involving Japan and Iscor in the investigation involving South Africa in accordance with section 733(e)(1) of the Act.

As set forth in preliminary determinations, because the massive imports criterion necessary our to find critical circumstances has not been met with respect to firms other than SMI, Kawasaki, Nippon and Iscor, the Department continues to find, for the purposes of these final determinations, that critical circumstances do not exist for imports of small diameter seamless pipe for the “all others” category in both the Japan and South Africa investigations.

There was no allegation of critical circumstances in the investigation of large diameter pipe from Japan.

Continuation of Suspension of Liquidation

In accordance with section 735(c)(1)(B) of the Act, we are directing the Customs Service to continue to suspend all entries of small diameter seamless pipe from the Japan produced by Kawasaki, Nippon and SMI and all entries of small diameter seamless pipe from South Africa produced by Iscor, that are entered, or withdrawn from warehouse, for consumption on or after September 15, 1999, the date 90 days prior to the date of publication of our preliminary determination. The Customs Service will also be directed to continue to suspend liquidation of all entries of large diameter seamless pipe exported from Japan and all entries of small diameter seamless pipe from Japan and South Africa produced by all companies not named above, that are entered, or withdrawn from warehouse, for consumption on or after December 14, 1999, the date of publication of our preliminary determinations in the Federal Register. The Customs Service shall require a cash deposit or bond equal to the dumping margin, as indicated in the chart below. These instructions suspending liquidation will remain in effect until further notice. The dumping margins are provided below:

Manufacturer/exporter | Margin (percent)
Japan—large diameter
Nippon Steel Corporation | 107.80
Kawasaki Steel Corporation | 107.80
Sumitomo Metal Industries | 107.80
All others | 68.88
Japan—small diameter
Nippon Steel Corporation | 106.07
Kawasaki Steel Corporation | 106.07
Sumitomo Metal Industries | 106.07
All others | 70.43
South Africa—small diameter
Iscor Ltd. | 43.51
All others | 40.17

ITC Notification

In accordance with section 735(d) of the Act, we have notified the International Trade Commission (ITC) of our determinations. As our final determinations are affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the Customs Service to assess antidumping duties on all imports of the subject merchandise entered, or withdrawn from warehouse, for consumption on or after the effective date of the suspension of liquidation.

These determinations are published pursuant to sections 735(d) and 777(i)(1) of the Act.

Dated: April 27, 2000.
Troy H. Cribb,
Acting Assistant Secretary for Import Administration.

Appendix I—Issues in Decision Memo

Comments and Responses

1. Class or Kind

[FR Doc. 00-11171 Filed 5-3-00; 8:45 am]

BILLING CODE 3510-DS-M